DEPARTMENT OF COMMERCE

National Oceanic and Atmospheric Administration

50 CFR Part 648

[Docket No. 130219149-3397-02]

RIN 0648- XC897

Fisheries of the Northeastern United States; Northeast Multispecies Fishery; Trip Limit Adjustments for the Common Pool Fishery

AGENCY: National Marine Fisheries Service (NMFS), National Oceanic and Atmospheric Administration (NOAA), Commerce.

ACTION: Temporary rule; inseason adjustment of landing limits.

SUMMARY: This temporary rule increases the possession limits for Gulf of Maine cod, Cape Cod/Gulf of Maine yellowtail flounder, Gulf of Maine winter flounder, white hake, and pollock for Northeast multispecies common pool vessels for the remainder of the 2013 fishing year. This action is being taken because catch rates of these stocks are low. Increasing these possession limits is intended to provide additional fishing opportunities and help allow the common pool fishery to catch more of its quota for these stocks.

DATES: Effective October 30, 2013, through April 30, 2014.

FOR FURTHER INFORMATION CONTACT: Liz Sullivan, Fishery Management Specialist, 978-282-8493.

SUPPLEMENTARY INFORMATION: Regulations governing the Northeast (NE) multispecies fishery are found at 50 CFR part 648, subpart F. The regulations at § 648.86(o) authorize the NE Regional Administrator (RA) to adjust the possession limits for common pool vessels in order to facilitate harvest of, or prevent exceeding the pertinent common pool quotas during the fishing year. Based on data reported through October 16, 2013, the common pool fishery has caught less than 20 percent of its quota for Gulf of Maine (GOM) cod, Cape Cod (CC)/GOM yellowtail flounder, GOM winter flounder, white hake, and pollock.

Table 2 contains the adjustments to the possession limits that are implemented in this action for Category A days-at-sea (DAS) common pool vessels. The regulations also require that the cod possession limits for Handgear A, Handgear B, and Small Vessel Category permits be adjusted relative to the cod trip limits for DAS vessels, and these adjustments are specified in Table 3. These trip limit adjustments for all vessels is effective October 30, 2013, through April 30, 2014. Common pool groundfish vessels that are already at sea when this action becomes effective may land fish at the increased trip limit levels. Catch will continue to be monitored through dealer-reported landings, vessel monitoring system catch reports, and other available information and, if necessary, additional adjustments to common pool management measures may be made.

Table 2—Common Pool Possession Limits for Five Groundfish Stocks
Stock | Old DAS limit | New DAS limit
GOM Cod | 100 lb (45.4 kg) per DAS, up to 300 lb (136.1 kg) per trip | 650 lb (294.8 kg) per DAS up to 2,000 lb (907.2 kg) per trip.
CC/GOM Yellowtail Flounder | 500 lb (226.8 kg) per DAS, up to 2,000 lb (907.2 kg) per trip | 2,000 lb (907.2 kg) per trip.
GOM Winter Flounder | 500 lb (226.8 kg) per trip | 2,000 lb (907.2 kg) per trip.
White Hake | 500 lb (226.8 kg) per trip | 1,000 lb (453.6 kg) per DAS up to 3,000 lb (1,361 kg) per trip.
Pollock | 10,000 lb (4,536 kg) per trip | Unlimited.

Table 3—GOM Cod Trip Limits for Handgear A and B and Small Vessel Category Permits
Permit category | Old trip limit | New trip limit
Handgear A | 100 lb (45.4 kg) per trip | 300 lb (136.1 kg) per trip.
Handgear B | 25 lb (11.3 kg) per trip | 75 lb (34.0 kg) per trip.
Small Vessel Category | Maximum of 100 lb (45.4 kg) of GOM cod within the 300-lb (136.1-kg) combined cod/yellowtail flounder trip limit | Up to 300 lb (136.1 kg) of GOM cod within the 300-lb combined cod/yellowtail trip limit.

Classification

This action is required by 50 CFR part 648, and is exempt from review under Executive Order 12866.

The Assistant Administrator for Fisheries, NOAA (AA), finds good cause pursuant to 5 U.S.C. 553(b)(B) to waive prior notice and the opportunity for public comment because it would be impracticable and contrary to the public interest for the reasons stated below. Pursuant to 5 U.S.C. 553(d)(3), the AA also finds good cause to waive the 30-day delayed effectiveness period for the same reasons.

The regulations at § 648.86(o) authorize the RA to adjust the NE multispecies trip limits for common pool vessels in order to prevent the overharvest or underharvest of the common pool quotas. The catch data used as the basis for this action only recently became available, and the trip limit increases implemented through this action reduces the probability of underharvesting the common pool quotas. As a result, the time necessary to provide for prior notice and comment, and a 30-day delay in effectiveness, would prevent NMFS from implementing the necessary trip limit adjustments for these five stocks in a timely manner, which could undermine management objectives of the NE Multispecies Fishery Management Plan, and cause negative economic impacts to the common pool fishery. There is additional good cause to waive the delayed effective period because this action relieves restrictions on fishing vessels by increasing trip limits.

Authority: 16 U.S.C. 1801 et seq.

Dated: October 30, 2013.
Emily H. Menashes,
Deputy Director, Office of Sustainable Fisheries, National Marine Fisheries Service.

[FR Doc. 2013-26318 Filed 10-30-13; 4:15 pm]

BILLING CODE 3510-22-P